DEPARTMENT OF COMMERCE

Foreign-Trade Zones Board

[S-135-2017]

Foreign-Trade Zone 44—Morris County, New Jersey; Application for Subzone; Ekornes Inc.; Somerset, New Jersey

An application has been submitted to the Foreign-Trade Zones Board (the Board) by the New Jersey Department of State, grantee of FTZ 44, requesting subzone status for the facility of Ekornes Inc. (Ekornes), located in Somerset, New Jersey. The application was submitted pursuant to the provisions of the Foreign-Trade Zones Act, as amended (19 U.S.C. 81a-81u), and the regulations of the Board (15 CFR part 400). It was formally docketed on September 7, 2017.

The proposed subzone (2.25 acres) is located at 615 Pierce Street, Somerset, New Jersey. No authorization for production activity has been requested at this time. The proposed subzone would be subject to the existing activation limit of FTZ 44.

In accordance with the Board's regulations, Kathleen Boyce of the FTZ Staff is designated examiner to review the application and make recommendations to the Executive Secretary.

Public comment is invited from interested parties. Submissions shall be addressed to the Board's Executive Secretary at the address below. The closing period for their receipt is October 23, 2017. Rebuttal comments in response to material submitted during the foregoing period may be submitted during the subsequent 15-day period to November 6, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: September 7, 2017.
Andrew McGilvray,
Executive Secretary.

[FR Doc. 2017-19297 Filed 9-11-17; 8:45 am]

BILLING CODE 3510-DS-P